DEPARTMENT OF AGRICULTURE

Agricultural Marketing Service

7 CFR Part 1218

[Document Number AMS-FV-10-0006]

Blueberry Promotion, Research, and Information Order; Section 610 Review

AGENCY: Agricultural Marketing Service, USDA.

ACTION: Confirmation of regulations.

SUMMARY: This document summarizes the results of an Agricultural Marketing Service (AMS) review of the Blueberry Promotion, Research, and Information Order (Order) under the criteria contained in Section 610 of the Regulatory Flexibility Act (RFA). Based upon its review, AMS concluded that there is a continued need for the order.

ADDRESSES: Interested persons may obtain a copy of the review on the Internet at: http://www.regulations.gov or requests for copies can be sent to the Docket Clerk, Research and Promotion Branch, Fruit and Vegetable Programs, Agricultural Marketing Service, U.S. Department of Agriculture, (Department) Room 0632-S, Stop 0244, 1400 Independence Avenue, SW., Washington, DC 20250-0244; facsimile: (202) 205-2800 or electronic mail: Jeanette.Palmer@ams.usda.gov.

FOR FURTHER INFORMATION CONTACT: Jeanette Palmer, Marketing Specialist, Research and Promotion Branch, Fruit and Vegetable Programs, AMS, USDA, Stop 0244, 1400 Independence Avenue, SW., Room 0632-S, Washington, DC 20250-0244; telephone: (888) 720-9917; facsimile: (202) 205-2800; or electronic mail: Jeanette.Palmer@ams.usda.gov.

SUPPLEMENTARY INFORMATION: The Blueberry Promotion, Research and Information Order (7 CFR part 1218) is authorized under the Commodity Promotion, Research, and Information Act of 1996 (Act) [7 U.S.C. 7411-7425].

The Order became effective on August 16, 2000 [65 FR 43961]. The Order is administered by the U.S. Highbush Blueberry Council (Council) with oversight by the Department of Agriculture (Department). The program is funded by assessments on highbush (cultivated) blueberries grown in and imported into the United States. Producers and importers pay the assessment. The producer assessment is remitted by first handlers, and the importer assessment is remitted by the U.S. Customs and Border Protection. Producers and importers who produce or import less than 2,000 pounds of highbush blueberries annually are exempt from the program. The purpose of the Order is to finance a coordinated program of promotion, research, and information to maintain and expand the market for fresh and processed cultivated blueberries in the United States and abroad.

The Council is composed of 16 members as follows: 10 producers (one from each of four regions and one from each of the top six producing states); 3 importers; 1 exporter from a foreign production area; 1 handler; and 1 public member. Each member has an alternate. The members and alternates are appointed to the Council by the Secretary of Agriculture and serve a term of 3 years.

There are approximately 2,000 producers, 200 first handlers, 50 importers, and 4 exporters who are subject to the provisions of the Order. The majority of the blueberry producers covered by the Order may be classified as small entities. Most importers, first handlers, and exporters would not be classified as small businesses.

AMS published in the Federal Register on March 24, 2006 [71 FR 14827], its plan to review certain regulations, including the Blueberry Order under criteria contained in section 610 of the RFA [5 U.S.C. 601-612]. Because many AMS regulations impact small entities, AMS decided, as a matter of policy, to review certain regulations which, although they may not meet the threshold requirement under section 610 of the RFA, warrant review.

AMS published a notice of review and request for written comments in the Federal Register on February 23, 2010 [75 FR 7986]. Twenty comments were received by the April 26, 2010, deadline.

The review was undertaken to determine whether the Order should be continued without change, amended, or rescinded (consistent with the objectives of the Act) to minimize the impacts on small entities. AMS considered the following factors: (1) The continued need for the Order; (2) comments received from the public concerning the Order; (3) the complexity of the Order; (4) the extent to which the Order overlaps, duplicates, or conflicts with other Federal rules, and, to the extent feasible, with State and local regulations; and (5) the length of time since the Order has been evaluated or the degree to which technology, economic conditions, or other factors have changed in the area affected by the Order.

Based on its review, the Department has concluded that there is a continued need for the Order. According to the Council's World Blueberry Acreage and Production Report, highbush blueberry acreage in North America increased from 71,075 acres in 2005 to an estimated 95,607 acres in 2008, a 35 percent increase in just three years. The United States share of this total increased from 56,665 acres in 2005 to 74,992 acres in 2008, a 32 percent increase. Highbush blueberry production volume is expected to increase significantly in the coming years.

Regarding the nature of complaints or comments received from the public concerning the Order, as previously mentioned twenty comments were received. They are discussed in the following paragraphs. One commenter opposed the program stating that government funds should not be used to market blueberries. However, the blueberry program is funded by producers and importers of blueberries. The program is developed by the industry to expand the markets for blueberries in the United States.

Nineteen commenters supported the program and considered it to be effective in promoting blueberries. All the commenters stated that the program is needed to increase blueberry consumption due to increase blueberry production.

One commenter stated that investing in promotion now to build a future is necessary even in poor economic conditions. Twelve commenters in favor of the program stated that further research of blueberries is needed to stay competitive in a global industry. Six commenters stated the program is needed to develop health claims for blueberries.

One commenter who supports the program stated that the ability for growers from different production areas to work together in an effort to increase consumption through product research and marketing programs has proven effective for many other crops.

Ten commenters stated that the assessment dollars are collected fairly from all U.S. production and imports and the Council utilizes the funds in a cost effective manner.

AMS provides Federal oversight of the blueberry program. The Order is not unduly complex, and AMS has not identified any Federal rules, or State and local regulations that duplicate, overlap, or conflict with the Order. Over the years, regulatory changes have been made to address industry operation changes and to improve program administration.

Regarding evaluations of the program or the degree to which technology, economic conditions, or other factors have changed in the area affected by the Order, section 512 (a)(6) of the Act and section 1218.55 of the Order require the Council to evaluate the program and to comply with the independent evaluation provision of the Federal Agricultural Improvement and Reform Act of 1996 (FAIR) [7 U.S.C. 7201]. The goal of these evaluations is to assure that the Order and the regulations implemented under it fit the needs of the industry and are consistent with the Act. The Council conducted an evaluation of the program under the FAIR in 2006. This evaluation, “An Economic Analysis of Domestic Market Impacts of the U.S. Highbush Blueberry Council,” concluded that the promotional spending by the Council clearly had a positive effect on demand. The next evaluation is scheduled to be conducted late in 2011.

Based upon its review, AMS has determined that the Order should be continued. AMS plans to continue working with the blueberry industry in maintaining an effective program.

Dated: February 25, 2011.
David R. Shipman,
Acting Administrator, Agricultural Marketing Service.

[FR Doc. 2011-4808 Filed 3-3-11; 8:45 am]

BILLING CODE 3410-02-P